DEPARTMENT OF THE INTERIOR

Fish and Wildlife Service

Environmental Statements; Notice of Intent: Mackay Island and Currituck National Wildlife Refuges, NC; Public Scoping Meetings

ACTION: Notice of intent to conduct public scoping meetings to obtain suggestions and information on issues to include in the preparation of Comprehensive Conservation Plans for Mackay Island and Currituck National Wildlife Refuges in North Carolina.

SUMMARY: This notice advises the public that the Fish and Wildlife Service, Southeast Region, intends to gather information necessary to prepare comprehensive conservation plans and associated environmental documents pursuant to the Service's Comprehensive Conservation Planning Policy and the National Environmental Policy Act and implementing regulations.

The meetings are scheduled as follows:

Tuesday, June 19, 2001, 6 p.m.-9 p.m., Currituck County Commissioners; Meeting Room, Old County Courthouse, Second Floor, 105 Courthouse Road, Currituck, NC 27929.

Thursday, June 21, 2001, 6 p.m.-9 p.m., Corolla Fire Station, 827 Whalehead Drive, Corolla, NC 27927.

Tuesday, June 26, 2001, 6 p.m.-9 p.m., Creeds Elementary School, 920 Princess Anne Road, Virginia Beach, VA 23457.

Thursday, June 28, 2001, 6 p.m.-9 p.m., Knotts Island Ruritan Building, 126 Brumley Road, Knotts Island, NC 27950.

DATES: Written comments should be received on or before June 25, 2001.

ADDRESSES: Address comments and requests for more information to the following: D.A. Brown, M.S., P.W.S., 1106 West Queen Street, P.O. Box 329, Edenton, North Carolina 27932, (252) 482-2364.

Information concerning these refuges may be found at the following website: http://rtncf-rci.ral.r4.fws.gov

If you wish to comment, you may submit your comments by any one of several methods. You may mail comments to the above address. You may also comment via the Internet to the following address: D_A_Brown@fws.gov. Please submit Internet comments as an ASCII file avoiding the use of special characters and any form of encryption. Please also include your name and return address in your Internet message. If you do not receive a confirmation from the system that we have received your Internet message. If you do not receive a confirmation from the system that we have received your Internet message, contact D.A. Brown directly at the above address. Finally, you may hand-deliver comments to Mr. Brown at 1106 West Queen Street, Edenton, North Carolina. Our practice is to make comments, including names and home addresses of respondents, available for public review during regular business hours. Individual respondents may request that we withhold their home address form the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved Comprehensive Conservation Plan. The plan guides management decisions and identifies the goals, objectives, and strategies for achieving refuge purposes. Public input into this planning process is encouraged. The plan will provide other agencies and the public with a clear understanding of the desired conditions of the refuge and how the Service will implement management strategies.

Mackay Island National Wildlife Refuge was established in 1961, as a wintering area for greater snow geese and feeding habitat for other migratory birds—primarily waterfowl.

Currituck National Wildlife Refuge, administered by Mackay Island Refuge, was established in 1983, to preserve and protect a portion of the North Carolina Outer Banks, one of the largest undeveloped coastal barrier ecosystems remaining on the east coast. The Service's ownership ensures perpetuation of basic wetland functions, including nutrient cycling, floodplain and erosion control, and assists in preserving the role of Currituck Sound estuaries as nurseries. The ground is an important black duck wintering area.

Dated: May 11, 2001.
Judy L. Pulliam,
Acting Regional Director.

[FR Doc. 01-13240 Filed 5-24-01; 8:45 am]

BILLING CODE 4310-55-M